DEPARTMENT OF ENERGY

Federal Energy Regulatory Commission

[Docket No. No. RP97-408-011]

Trailblazer Pipeline Company; Notice of Compliance Filing

April 6, 2000.

Take notice that on March 31, 2000, Trailblazer Pipeline Company (Trailblazer) tendered for filing as part of its FERC Gas Tariff, Third Revised Volume No. 1, certain tariff sheets to be effective April 1, 2000.

Trailblazer states that the purpose of this filing is to implement base rates and tariff provisions reflected in its Amended Stipulation and Agreement (Settlement) in Docket No. RP97-408. The Federal Energy Regulatory Commission (Commission) approved the Settlement in its orders issued April 28, 1999 and August 3, 1999. The presiding Administrative Law Judge has terminated the proceeding.

Trailblazer requests waivers of the Commission's Regulations to the extent necessary to permit the tariff sheets submitted to become effective April 1, 2000.

Trailblazer states that copies of the filing are being mailed to its customers and interested state regulatory agencies.

Any person desiring to protest this filing should file a protest with the Federal Energy Regulatory Commission, 888 first Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-9033 Filed 4-11-00; 8:45 am]

BILLING CODE 6717-01-M